SECURITIES AND EXCHANGE COMMISSION

[Release No. 34-53068; File No. SR-Phlx-2005-87]

Self-Regulatory Organizations; Philadelphia Stock Exchange, Inc.; Notice of Filing and Order Granting Accelerated Approval to a Proposed Rule Change, and Amendment No. 1 Thereto Relating to the Exchange's Covered Sale Fee and Exchange Rule 607

January 11, 2006.

Correction

The release number for File No. SR-Phlx-2005-87 issued on January 6, 2006 was incorrectly stated as Release No. 34-53088. The correct release number appears above.

Nancy M. Morris,
Secretary.

[FR Doc. E6-431 Filed 1-17-06; 8:45 am]

BILLING CODE 8010-01-P